ENVIRONMENTAL PROTECTION AGENCY

[EPA-HQ-OAR-2022-0067; FRL-10444-01-OMS]

Information Collection Request Submitted to OMB for Review and Approval; Comment Request; NSPS for Magnetic Tape Coating Facilities (Renewal)

AGENCY: Environmental Protection Agency (EPA).

ACTION: Notice.

SUMMARY: The Environmental Protection Agency (EPA) has submitted an information collection request (ICR), NSPS for Magnetic Tape Coating Facilities (EPA ICR Number 1135.14, OMB Control Number 2060-0171), to the Office of Management and Budget (OMB) for review and approval in accordance with the Paperwork Reduction Act. This is a proposed extension of the ICR, which is currently approved through January 31, 2023. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 27, 2022.

ADDRESSES: Submit your comments, referencing Docket ID Number EPA-HQ-OAR-2022-0067, to: (1) EPA online using https://www.regulations.gov/ (our preferred method), or by email to docket@epa.gov, or by mail to: EPA Docket Center, Environmental Protection Agency, Mail Code 28221T, 1200 Pennsylvania Ave. NW, Washington, DC 20460.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Magnetic Tape Coating Facilities (40 CFR part 60, subpart SSS) were proposed on January 22, 1986; promulgated on October 3, 1988; and most-recently amended on February 12, 1999. These regulations apply to both existing and new coating operation and coating mixing equipment at magnetic tape coating facilities. New facilities include those that commenced construction, modification, or reconstruction after the date of proposal. This information is being collected to assure compliance with 40 CFR part 60, subpart SSS.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Magnetic tape coating facilities.

Respondent's obligation to respond: Mandatory (40 CFR part 60, subpart SSS).

Estimated number of respondents: 4 (total).

Frequency of response: Initially, quarterly, and semiannually.

Total estimated burden: 811 hours (per year). Burden is defined at 5 CFR 1320.3(b).

Total estimated cost: $132,000 (per year), which includes $34,900 in annualized capital/startup and/or operation & maintenance costs.

Changes in the Estimates: The decrease in burden from the most-recently approved ICR is due to an adjustment(s). The adjustment decrease in burden from the most-recently approved ICR is due to a decrease in the number of sources. The number of respondents decreased by approximately 33%. The adjustment decrease in the number of respondents is due to a review of the EPA's Enforcement and Compliance History Online (ECHO) database, a list of facilities from a 2003 EPA Residual Risk Analysis, and facility permits. Additionally, the previous ICR included capital/startup costs in the estimated burden due to the addition of new coating lines to existing facilities. For the next three years, we do not expect new coating lines to be added, but the existing continuous monitoring equipment are expected to have O&M costs.

Courtney Kerwin,
Director, Regulatory Support Division.

[FR Doc. 2022-25629 Filed 11-23-22; 8:45 am]

BILLING CODE 6560-50-P